DEPARTMENT OF TRANSPORTATION

Maritime Administration

[USCG-2006-26009]

Calypso LNG LLC, Calypso Liquefied Natural Gas Deepwater Port License Application

AGENCY: Maritime Administration, DOT.

ACTION: Notice of application.

SUMMARY: The Coast Guard and the Maritime Administration (MARAD) announce that they have received an application for the licensing of a natural gas deepwater port, and that the application appears to contain the required information. This notice summarizes the applicant's plans and the procedures that will be followed in considering the application.

DATES: The Deepwater Port Act of 1974, as amended, requires any public hearing on this application to be held not later than 240 days after this notice, and requires a decision on the application to be made not later than 90 days after the final public hearing.

ADDRESSES: The public docket for USCG-2006-26009 is maintained by the: Docket Management Facility, U.S. Department of Transportation, 400 Seventh Street, SW., Washington, DC 20590-0001.

Docket contents are available for public inspection and copying, at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: Mary K. Jager, U.S. Coast Guard, telephone: 202-372-1454, e-mail: Mary.K.Jager@uscg.mil. If you have questions on viewing the docket, call Renee V. Wright, Program Manager, Docket Operations, telephone: 202-493-0402.

SUPPLEMENTARY INFORMATION:

Receipt of Application

On March 1, 2006, the Coast Guard and MARAD received an application from Calypso LNG LLC, 1990 Post Oak Boulevard, Suite 1900, Houston, Texas 77056 for all Federal authorizations required for a license to own, construct, and operate a deepwater port governed by the Deepwater Port Act of 1974, as amended, 33 U.S.C. 1501 et seq. (the Act). On October 27, 2006, we determined that the application appears to contain all information required by the Act.

Background

According to the Act, a deepwater port is a fixed or floating manmade structure other than a vessel, or a group of structures, located beyond State seaward boundaries and used or intended for use as a port or terminal for the transportation, storage, and further handling of oil or natural gas for transportation to any State.

A deepwater port must be licensed by the Maritime Administrator (by delegated authority of the Secretary of Transportation, published on June 18, 2003 (68 FR 36496)). Statutory and regulatory requirements for licensing appear in 33 U.S.C. 1501 et seq. and in 33 CFR Part 148. Under delegations from and agreements between the Secretary of Transportation and the Secretary of Homeland Security, applications are processed by the Coast Guard and MARAD. Each application is considered on its merits.

The Act requires adherence to a strict timeline for processing an application. Once we determine that an application contains the required information, we must hold public hearings on the application within 240 days, and the Maritime Administrator must render a decision on the application within 330 days. We will publish additional Federal Register notices to inform you of these public hearings and other procedural milestones, including environmental review. The Maritime Administrator's decision, and other key documents, will be filed in the public docket.

At least one public hearing must take place in each adjacent coastal State. For purposes of the Act, Florida is the adjacent coastal State for this application. Other States can apply for adjacent coastal State status in accordance with 33 U.S.C. 1508(a)(2).

Summary of the Application

Calypso LNG LLC, proposes to own, construct, and operate a deepwater port, named Calypso, in the Federal waters of the Outer Continental Shelf in the OCS NG 17-06 (Bahamas) lease area, approximately 8 to 10 miles off the east coast of Florida to the northeast of Port Everglades, in a water depth of approximately 800 to 950 feet. Calypso would consist of a permanently moored unloading buoy system with two (2) submersible buoys separated by a distance of approximately three (3) miles. Each unloading buoy would be permanently secured to eight or nine mooring lines, consisting of wire rope, chain, and buoyancy elements, each attached to anchor points on the seabed. Anchor points would consist of a combination of suction piles and gravity anchors.

The buoys would be designed to moor and unload two (2) types of LNG vessels: a transport and regasification vessel (TRV) of approximately 140,000 cubic meter capacity and a storage and regasification ship (SRS) of approximately 250,000 cubic meter capacity. Both vessels would be equipped to vaporize LNG cargo to natural gas through an onboard closed loop vaporization system, and to odorize and meter gas for send-out by means of the unloading buoy to conventional subsea pipelines. The TRVs would moor to the westernmost buoy, and the SRS to the easternmost buoy. The mooring buoys would be connected through the vessels' hulls to specially designed turrets that would enable the vessel to weathervane or rotate in response to prevailing wind, wave, and current directions. When the vessels are not present, the buoys would be submerged approximately 100 feet below the sea surface.

The unloading buoys would connect through flexible risers and two (2) approximately 2.5 mile long 30-inch flowlines located on the seabed that would connect directly to the Calypso pipeline, a Federal Energy Regulatory Commission (FERC) permitted pipeline.

Three types of vessels would be associated with the port: the TRV drawn from the existing and future global fleet of specialized LNG carriers compatible with Calypso's unloading buoy system; the SRS, a specialized, purpose-built modified LNG carrier, designed to accept, regasify, odorize and meter LNG from conventional LNG carriers and deliver it to the pipeline through Calypso's unloading buoy system; and conventional LNG carriers. When empty the TRV would disconnect from the buoy and leave the port, followed by another full TRV that would arrive and connect to the buoy. The SRS would normally remain attached to its mooring buoy. To sustain continuous vaporization, the SRS' cargo tanks would be refilled approximately every two (2) to four (4) days by standard LNG carriers drawn from the global fleet. The SRS would be capable of detaching from the buoy if threatened by a severe storm, such as a hurricane, and move under its own power to safety; then return and reconnect to the buoy and continue operations once the storm danger passed.

Calypso would be capable of delivering natural gas in a continuous flow by having at least one TRV or SRS regasifying at all times. The system would be designed so that a TRV and SRS can be moored simultaneously for concurrent unloading of natural gas. Calypso would have an average throughput capacity of approximately 1.1 billion standard cubic feet per day and a peak delivery capacity of 1.9 Bcsfd.

No onshore pipelines or LNG storage facilities are associated with the proposed deepwater port application. A shore based facility would be used to facilitate movement of personnel, equipment, supplies, and disposable materials between the port and shore.

Construction of the deepwater port would be expected to take three (3) years; with startup of commercial operations following construction, should a license be issued. The deepwater port would be designed, constructed and operated in accordance with applicable codes and standards and would have an expected operating life of approximately 25 years.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

(Authority 49 CFR 1.66)

Dated: October 31, 2006.
By order of the Maritime Administrator.
Joel C. Richard,
Secretary, Maritime Administration.

[FR Doc. E6-18598 Filed 11-3-06; 8:45 am]

BILLING CODE 4910-81-P